DEPARTMENT OF HEALTH AND HUMAN SERVICES

Office of the Secretary

[Document Identifier: HHS-OS-0990-0392-30-D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for renewal of the approved information collection assigned OMB control number 0990-0392, scheduled to expire on May 31, 2015. Comments submitted during the first public review of this ICR will be provided to OMB. OMB will accept further comments from the public on this ICR during the review and approval period.

DATES: Comments on the ICR must be received on or before May 20, 2015.

ADDRESSES: Submit your comments to OIRA_submission@omb.eop.gov or via facsimile to (202) 395-5806.

FOR FURTHER INFORMATION CONTACT: Information Collection Clearance staff, Information.CollectionClearance@hhs.gov or (202) 690-6162.

SUPPLEMENTARY INFORMATION: When submitting comments or requesting information, please include the OMB control number 0990-0392 and document identifier HHS-OS0990-0392-30D for reference.

Information Collection Request Title: Office of Adolescent Health and Administration for Children, Youth and Families Teen Pregnancy Prevention Performance Measure Collection.

Abstract: The Office of Adolescent Health (OAH), U.S. Department of Health and Human Services (HHS) is requesting an extension without change of a currently approved information collection request by OMB. The purpose of the extension is to complete the ongoing data collection for the Office of Adolescent Health and Administration for Children, Youth and Families Teen Pregnancy Prevention Performance Measures.

Need and Proposed Use of the Information: To collect performance measure data on the OAH Teen Pregnancy Prevention (TPP) Program and the ACF/FYSB Personal Responsibility Education Program Innovative Strategies (PREIS). These data will allow OAH and FYSB to monitor the progress of program grantees, and to report to Congress on the performance of the programs.

Likely Respondents: The 106 TPP and PREIS grantees and approximately 2000 PREIS youth participants.

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information.

The total annual burden hours estimated for this ICR are summarized in the table below.

Total Estimated Annualized Burden—Hours
Forms (if necessary) | Type of respondent | Number of respondents | Number of responses per respondent | Average burden hours per response | Total burden hours
Measures for all grantees | Grantee program staff—all | 106 | 1 | 7 | 742
Participant-level measures | Grantee program staff—Tier 1 C/D, Tier 2, and PREIS | 45 | 1 | 1 | 45
Perceived impact questions | Youth participants—PREIS | 2,000 | 1 | 5/60 | 167
Perceived impact measures | Grantee program staff—PREIS | 11 | 1 | 3 | 33
Total |  |  |  |  | 987

Terry S. Clark,
Asst Information Collection Clearance Officer.

[FR Doc. 2015-08960 Filed 4-17-15; 8:45 am]

BILLING CODE 4168-11-P